DEPARTMENT OF ENERGY

Federal Energy Regulatory Commission

[Docket No. GT-00-34-001]

Dauphin Island Gathering Partners; Notice of Compliance Filing

August 24, 2000.

Take notice that on August 16, 2000, Dauphin Island Gathering Partners (DIGP) tendered for filing to become part of its FERC Gas Tariff, First Revised Volume No. 1, the following tariff sheets, with an effective date of August 7, 2000. The tariff sheets corrected several minor errors on DIGP's negotiated rates tariff sheets that were related to the nonconforming service agreements filed in this docket. The following tariff sheets are proposed to become effective on August 7, 2000:

Third Revised Sheet No. 9

Second Revised Sheet No. 10

DIGP states that on July 7, 2000, it filed tariff sheets to reflect fifteen nonconforming agreements. By Letter Order dated July 28, 2000 (Letter Order), the Commission accepted the nonconforming agreements and the tariff sheets reflecting the shippers listed in those agreements. The Letter Order further directed DIGP to file within 10 days tariff sheets setting forth all negotiated rates. Since the filing of a letter in response, DIGP has discovered three minor corrections on the negotiated rate tariff sheets.

DIGP states that copies of the filing are being served contemporaneously on all participants listed on the service list in this proceeding and on all persons who are required by the Commission's regulations to be served with the application initiating these proceedings.

Any person desiring to protest this filing should file a protest with the Federal Energy Regulatory Commission, 888 First Street, N.E., Washington, D.C. 20426, in accordance with Section 385.211 of the Commission's Rules and Regulations. All such protests must be filed as provided in section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-22101 Filed 8-29-00; 8:45 am]

BILLING CODE 6717-01-M